DEPARTMENT OF STATE

[Public Notice 11297]

List of Participating Countries and Entities in the Kimberley Process Certification Scheme, Known as “Participants” for the Purposes of the Clean Diamond Trade Act of 2003 (Pub. L. 108-19) and Section 2 of Executive Order 13312 of July 29, 2003

ACTION: Notice.

SUMMARY: The Department of State is updating the list of Participants eligible for trade in rough diamonds under the Act, and their respective Importing and Exporting Authorities, revising the previously published list of July 5, 2019, to reflect the addition of the United Kingdom as an independent Participant, among other changes.

DATES: This notice is effective on January 8, 2021.

FOR FURTHER INFORMATION CONTACT: Pamela Fierst-Walsh, Senior Advisor, Bureau of Economic and Business Affairs, Department of State, (202) 647-6116.

SUPPLEMENTARY INFORMATION:

Section 4 of the Clean Diamond Trade Act of 2003, Public Law 108-19 (the “Act”) requires the President to prohibit the importation into, or the exportation from, the United States of any rough diamond, from whatever source, that has not been controlled through the Kimberley Process Certification Scheme (KPCS). Under Section 3(2) of the Act, “controlled through the Kimberley Process Certification Scheme” means an importation from the territory of a Participant or exportation to the territory of a Participant of rough diamonds that is either (i) carried out in accordance with the KPCS, as set forth in regulations promulgated by the President, or (ii) controlled under a system determined by the President to meet substantially the standards, practices, and procedures of the KPCS. The referenced regulations are contained at 31 CFR part 592 (“Rough Diamond Control Regulations”) (68 FR 45777, August 4, 2003).

Section 6(b) of the Act requires the President to publish in the Federal Register a list of all Participants, and all Importing and Exporting Authorities of Participants, and to update the list as necessary. Section 2 of Executive Order 13312 of July 29, 2003 delegates this function to the Secretary of State. Section 3(7) of the Act defines “Participant” as a state, customs territory, or regional economic integration organization identified by the Secretary of State. Section 3(3) of the Act defines “Exporting Authority” as one or more entities designated by a Participant from whose territory a shipment of rough diamonds is being exported as having the authority to validate a Kimberley Process Certificate. Section 3(4) of the Act defines “Importing Authority” as one or more entities designated by a Participant into whose territory a shipment of rough diamonds is imported as having the authority to enforce the laws and regulations of the Participant regarding imports, including the verification of the Kimberley Process Certificate accompanying the shipment.

List of Participants

Pursuant to Sections 3 and 6 of the Act, Section 2 of Executive Order 13312, Department of State Delegations of Authority No. 245-1 (February 13, 2009), and No. 376 (October 31, 2011), I hereby identify the following entities as Participants under section 6(b) of the Act. Included in this List are the Importing and Exporting Authorities for Participants, as required by Section 6(b) of the Act. This List is published solely for the purpose of implementing the mandates cited above and does not reflect or prejudice any other regulation or prohibition that may apply with respect to trading, doing business, or engaging in any other transaction with any of the listed countries or entities. This list revises the revising the previously published list of July 5, 2019 to reflect the addition of the United Kingdom as an independent Participant, among other changes.

Angola—Ministry of Mineral Resources and Petroleum, Ministry of Trade.

Armenia—Ministry of Economic Development and Investment.

Australia—Department of Industry, Innovation and Science (Exporting Authority), Department of Home Affairs (Importing Authority).

Bangladesh—Export Promotion Bureau.

Belarus—Ministry of Finance—Precious Metals and Gemstones Department.

Botswana—Ministry of Minerals, Green Technology and Energy Security—Diamond Hub.

Brazil—Ministry of Mines and Energy—Secretariat of Geology, Mining and Mineral Processing—National Mining Agency.

Cambodia—Ministry of Commerce.

Cameroon—Ministry of Mines—National Permanent Secretariat for the Kimberley Process.

Canada—Ministry of Natural Resources Canada.

Central African Republic—Ministry of Mines, Energy and Hydraulics.

China—General Administration of China Customs; in the Hong Kong Special Administrative Region: Trade and Industry Department (Exporting Authority), Customs and Exercise Department (Importing Authority).

Congo, Democratic Republic of the—Ministry of Mines—The Center of Expertise, Evaluation and Certification of Precious and Semiprecious Mineral Substances.

Congo, Republic of the—Ministry of Mines and Geology—Bureau of Expertise, Evaluation and Certification of Precious Mineral Substances.

Cote D'Ivoire (Ivory Coast)—General Directorate of Customs.

Eswatini—Office of the Commissioner of Mines.

European Union—European Commission—Foreign Policy Instruments; in Belgium: Federal Public Service of Economy; in the Czech Republic: General Directorate of Customs; in Germany: Main Customs Office (Exporting Authority), General Directorate for Management VI (Importing Authority); In Ireland: the Kimberley Process and Responsible Minerals Authority—Exploration and Mining Division—Department of Communications, Climate Action and Environment; in Portugal: Tributary and Customs Authority—Licensing Services Directorate; in Romania: National Authority for Consumer Protection—General Department for Precious Metals, Precious Stones and the Kimberley Process.

Gabon—Permanent Center for the Kimberley Process

Ghana—Ministry of Lands and Natural Resources—Precious Minerals Marketing Company Limited.

Guinea—Ministry of Mines and Geology.

Guyana—Guyana Geology and Mines Commission.

India—The Gem and Jewellery Export Promotion Council.

Indonesia—Ministry of Trade—Director General for Foreign Trade.

Israel—Ministry of Economy and Industry—Office of the Diamond Controller.

Japan—Ministry of Economy, Trade and Industry—Agency for Natural Resources and Energy Trade and Economic Cooperation Bureau.

Kazakhstan—Ministry for Investments and Development—Committee for Technical Regulation and Metrology.

Korea, Republic of (South Korea)—Ministry of Trade, Industry and Energy.

Laos—Ministry of Industry and Commerce—Department of Import and Export.

Lebanon—Ministry of Economy and Trade.

Lesotho—Ministry of Mining—Department of Mines—Diamond Control Office.

Liberia—Ministry of Lands, Mines and Energy.

Malaysia—Royal Malaysian Customs Department.

Mali—Ministry of Mines—Office of Expertise, Evaluation and Certification of Rough Diamonds.

Mauritius—Ministry of Industry, Commerce and Consumer Protection—Trade Division.

Mexico—Ministry of Economy—Directorate-General for International Trade in Goods.

Namibia—Ministry of Mines and Energy—Directorate of Diamond Affairs.

New Zealand—New Zealand Customs Service.

Norway—Norwegian Customs Service.

Panama—National Customs Authority.

Russia—Ministry of Finance.

Sierra Leone—National Minerals Agency, National Revenue Authority.

Singapore—Ministry of Trade and Industry, Singapore Customs.

South Africa—South African Diamond and Precious Metals Regulator.

Sri Lanka—National Gem and Jewellery Authority.

Switzerland—State Secretariat for Economic Affairs.

Taipei—Ministry of Economic Affairs—Bureau of Foreign Trade—Import/Export Administration Division.

Tanzania—Ministry of Energy and Minerals—Commissioner for Minerals.

Thailand—Ministry of Commerce—Department of Foreign Trade.

Togo—Ministry of Mines and Energy—Head Office of Mines and Geology.

Turkey—Borsa Istanbul Precious Metals and Diamond Market.

Ukraine—Ministry of Finance—State Gemmological Centre of Ukraine.

United Arab Emirates—Dubai Multi Commodities Center Authority—U.A.E. Kimberley Process Office in the Dubai Airport Free Zone.

United Kingdom—Foreign, Commonwealth & Development Office—Government Diamond Office.

United States of America—United States Census Bureau (Exporting Authority), United States Customs and Border Protection (Importing Authority).

Venezuela—Central Bank of Venezuela (Exporting Authority), National Customs and Tax Administration Integrated Service (Importing Authority).

Vietnam—Ministry of Industry and Trade—Import Export Management Divisions in Hanoi and Ho Chi Minh City.

Zimbabwe—Minerals Marketing Corporation of Zimbabwe (Exporting Authority), Zimbabwe Revenue Authority (Importing Authority).

Peter D. Haas,
Principal Deputy Assistant Secretary, Bureau of Economic and Business Affairs, Department of State.

[FR Doc. 2021-00062 Filed 1-7-21; 8:45 am]

BILLING CODE 4710-AE-P